DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Flood Mitigation Assistance (eGrants) and Grant Supplemental Information.

Type of Information Collection: Revision of a currently approved collection.

OMB Number: 1660-0072.

Abstract: Information sought with this submission will comprise Phase I of the electronic, web-based application for Flood Mitigation Assistance (FMA) program grants through FEMA's eGrants system. The eGrants system is being developed to meet the intent of the eGovernment initiative, authorized by Public Law 106-107 passed on November 20, 1999. This initiative requires that all government agencies both streamline grant application process and provide for the means to electronically create, review, and submit a grant application via the Internet.

The FMA eGrants application will not replace the FMA grants program paper-based collection currently under OMB control number 1660-0025. It is provided as an alternative method for grantees and subgrantees to use.

The FMA eGrants application includes the information necessary for FEMA to assess the financial needs of the applicants as well as the projected benefits to be obtained from the use of the grant funds. FEMA will also use the information to determine eligibility and whether the proposed use of such funds meets the requirements and intent of the NFIRA. FEMA will use the information to evaluate applications and make award decisions, monitor ongoing performance and manage the flow of Federal funds, and to appropriately closeout the grant award when all work is completed.

Affected Public: State, local and Tribal governments.

Number of Respondents: 280—56 States and Territories × 4 subgrants per State = 224 + 56 States to review, coordinate and forward FMA grant applications to FEMA for approval.

Estimated Time per Respondent: 14.6 hrs.

Estimated Total Annual Burden Hours: 4,088.

Frequency of Response: On occasion.

Comments: Interested persons are invited to submit written comments within 30 days of this notice on the proposed information collection to the FEMA Desk Officer at the Office of Management and Budget at e-mail address David_Rostker@omb.oep.gov.

FOR FURTHER INFORMATION CONTACT: Requests for additional information or copies of the information collection should be made to Muriel B. Anderson, Chief, Records Management Branch, Information Resources Management Division, Information Technology Services Directorate, Federal Emergency Management Agency at facsimile number (202) 646-3347 or e-mail address InformationCollections@fema.gov.

Dated: November 13, 2003.
Edward W. Kernan,
Division Director, Information Resources Management Division, Information Technology Services Directorate.

[FR Doc. 03-30292 Filed 12-4-03; 8:45 am]

BILLING CODE 9110-13-P